DEPARTMENT OF THE INTERIOR

National Park Service

[NPS-WASO-NRNHL-10533; 2200-3200-665]

National Register of Historic Places; Notification of Pending Nominations and Related Actions

Nominations for the following properties being considered for listing or related actions in the National Register were received by the National Park Service before June 1, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 9, 2012. Before including your address, phone number, email address, or other personal identifying information in your comment, you should be aware that your entire comment—including your personal identifying information—may be made publicly available at any time. While you can ask us in your comment to withhold your personal identifying information from public review, we cannot guarantee that we will be able to do so.

Dated: June 7, 2012.
Alexandra Lord,
Acting Chief National Register of Historic Places/National Historic Landmarks Program.

GEORGIA

Paulding County

Fannin—Cooper Farm, 620 & 511 Smith Rd., Hiram, 12000411

KANSAS

Labette County

Riverside Park, (New Deal-Era Resources of Kansas MPS) N. Oregon St., Oswego, 12000412

MASSACHUSETTS

Bristol County

Long Plain School, 1203 Main St., Acushnet, 12000413

MINNESOTA

Hennepin County

Northwestern National Life Insurance Company Home Office, 430 Oak Grove St., Minneapolis, 12000414

St. Louis County

First National Bank of Gilbert, 2 N. Broadway, Gilbert, 12000415

MISSOURI

Jasper County

Cave Spring School and Cave Spring Cemetery, (One-Teacher Public Schools of Missouri MPS) 4323 Cty. Rd. 4, Sarcoxie, 12000416

Johnson County

Grover Street Victorian Historic District, (Warrensburg, Missouri MPS) 209, 210, 211, 212, 214, 216, & 218 Grover St., Warrensburg, 12000417

NEW YORK

Albany County

Blaisdell, Dr. Wesely, House, S. Main St., Coeymans, 12000418

Greene County

Laraway, John and Martinus, Inn, Main St., Prattsville, 12000419

TENNESSEE

Davidson County

RCA Studio B, 1611 Roy Acuff Pl., Nashville, 12000420

WASHINGTON

Clark County

Kiggins Theater, (Movie Theaters in Washington State MPS) 1011 Main St., Vancouver, 12000421

A request to move has been made for the following resource:

KANSAS

Bourbon County

Long Shoals Bridge, Over Little Osage River, E of Fulton, Fulton, 89002182

A request for removal has been made for the following resources:

TENNESSEE

Benton County

Mount Zion Church, 5.5 mi. SE. of Big Sandy, Big Sandy, 73001752

Sullivan County

Alison, Jesse, House, SW. of Bluff City off U.S. 11E, Bluff City, 73001839

[FR Doc. 2012-15236 Filed 6-21-12; 8:45 am]

BILLING CODE 4312-51-P